DEPARTMENT OF TRANSPORTATION

Bureau of Industry and Security

15 CFR Part 774

[Docket No. 031201299-3299-01]

RIN 0694-AC54

Removal of “National Security” controls from, and imposition of “Regional Stability” controls on, certain items on the Commerce Control List; Correction

AGENCY: Bureau of Industry and Security, Commerce.

ACTION: Final rule; correction.

SUMMARY: The Bureau of Industry and Security published in the Federal Register of March 30, 2004, a final rule that replaced national security export and reexport controls on certain items with regional stability controls. This document corrects two typographical errors that appeared in that rule.

DATES: This rule is effective March 30, 2004.

FOR FURTHER INFORMATION CONTACT: William Arvin, Regulatory Policy Division, Office of Exporter Services, Bureau of Export Administration, Telephone: (202) 482-0436.

SUPPLEMENTARY INFORMATION: The Bureau of Industry and Security published in the Federal Register of March 30, 2004 (69 FR 16478), a final rule that replaced national security export and reexport controls on certain items with regional stability controls. That document inadvertently misstated a cross reference to Export Control Classification Number 0A984 as 0984. It also misstated a reference to Country Chart column “AT Column 1” as “AT Column”. This document corrects those errors.

PART 774—[CORRECTED]

In rule FR Doc. 04-7005, published on March 30, 2004 (69 FR 16478), make the following corrections. On page 16480, the middle column, correct the note to Export Control Classification Number 0A018, paragraph .c to read as follows:

Note: 0A018.c does not control weapons used for hunting or sporting purposes that were not specifically designed for hunting or sporting purposes that were not specially designed for military use and are not of the fully automatic type, but see 0A984 concerning shotguns.

On page 16480, the third column, in the Reason for Control paragraph of the License Requirements section of Export Control Classification Number 0E918, correct the third line in the Country Chart column to read: AT Column 1.

Eileen Albanese,
Director, Office of Exporter Services.

[FR Doc. 04-7808 Filed 4-5-04; 8:45 am]

BILLING CODE 3510-33-P